DEPARTMENT OF HOUSING AND URBAN DEVELOPMENT

[Docket No. FR-4563-N-08]

Notice of Proposed Information Collection for Public and Indian Housing-Economic Development and Supportive Services Program (EDSS)

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: August 29, 2000.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Annual Report.

OMB Control Number: 2577-0211.

Description of the need for the information and proposed use: Grantees participating in EDSS are required to submit to HUD an annual progress report, participant evaluation and assessment data and other information, regarding the effectiveness of the Program activities, No grant payments will be approved for drawdown through the Line of Credit Control System/Voice Response System (LOCCS/VRS) for grantees with overdue progress reports.

Agency form numbers: None.

Members of affected public: State, Local or Tribal government.

Estimation of the total number of hours needed to prepare the information collection including number of respondents, frequency of response, and hours of response: 224 EDSS grantees, annual, eight hours per response, 1,792 hours total reporting burden.

Status of the proposed information collection: Extension.

Authority: Section 3506 of the Paperwork Reduction Act of 1995, 44 U.S.C. Chapter 35, as amended.

Dated: June 26, 2000.
Harold Lucas,
Assistant Secretary for Public and Indian Housing.

[FR Doc. 00-16530 Filed 6-29-00; 8:45 am]

BILLING CODE 4210-33-M